DEPARTMENT OF AGRICULTURE

Rural Utilities Service

Publication of Depreciation Rates

AGENCY: Rural Utilities Service, USDA.

ACTION: Notice.

SUMMARY: The Rural Utilities Service (RUS) hereby announces the depreciation rates for telecommunications plant for the period ending December 31, 2003.

DATES: These rates are effective immediately and will remain in effect until rates are available for the period ending December 31, 2004, approximately six months from now.

FOR FURTHER INFORMATION CONTACT: Jonathan P. Claffey, Deputy Assistant Administrator, Telecommunications Program, Rural Utilities Service, STOP 1590—Room 5151, 1400 Independence Avenue, SW., Washington, DC 20250-1590. Telephone: (202) 720-9556.

SUPPLEMENTARY INFORMATION: In the RUS regulation 7 CFR part 1737, Pre-Loan Policies and Procedures Common to Insured and Guaranteed Telecommunications Loans, section 1737.70(e) explains the depreciation rates that are used by RUS in its feasibility studies. Section 1737.70(e)(2) refers to median depreciation rates published by RUS for all borrowers. The following chart provides those rates, compiled by RUS, for the reporting period ending December 31, 2003:

Median Depreciation Rates of RUS Borrowers by Equipment Category for Period Ending December 31, 2003
Telecommunications plant category | Depreciation rate (percent)
1. Land and Support Assets:
a. Motor Vehicles | 15.00
b. Aircraft | 11.25
c. Special purpose vehicles | 12.07
d. Garage and other work equipment | 10.00
e. Buildings | 3.16
f. Furniture and Office equipment | 10.00
g. General purpose computers | 19.325
2. Central Office Switching:
a. Digital | 8.33
b. Analog & Electro-mechanical | 10.00
c. Operator Systems | 9.00
3. Central Office Transmission:
a. Radio Systems | 9.46
b. Circuit equipment | 10.00
4. Information origination/termination:
a. Station apparatus | 12.00
b. Customer premises wiring | 10.00
c. Large private branch exchanges | 12.50
d. Public telephone terminal equipment | 11.10
e. Other terminal equipment | 10.00
5. Cable and wire facilities:
a. Aerial cable—Poles | 6.36
b. Aerial cable—Metal | 6.00
c. Aerial cable—Fiber | 5.10
d. Underground cable—Metal | 5.00
e. Underground cable—Fiber | 5.00
f. Buried cable—Metal | 5.00
g. Buried cable—Fiber | 5.00
h. Conduit systems | 3.03
i. Other | 10.07

Dated: December 17, 2004.
Curtis Anderson,
Acting Administrator, Rural Utilities Service.

[FR Doc. 04-28081 Filed 12-22-04; 8:45 am]

BILLING CODE 3410-15-P